DEPARTMENT OF DEFENSE

Office of the Secretary

[Transmittal Nos. 12-06]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-06 with attached transmittal, policy justification, and Sensitivity of Technology.

Dated: May 29, 2012.
Aaron Siegel,
Alternate OSD Federal Register Liaison Officer, Department of Defense.

Transmittal No. 12-06

Notice of Proposed Issuance of Letter of Offer Pursuant to Section 36(b)(1) of the Arms Export Control Act, as Amended

(i) Prospective Purchaser: Republic of Korea

(ii) Total Estimated Value:

Major Defense Equipment * | $81 million.
Other | 3 million.
Total | 84 million.
* as defined in Section 47(6) of the Arms Export Control Act.

(iii) Description and Quantity or Quantities of Articles or Services under Consideration for Purchase: 18 UGM-84L HARPOON Block II All-Up-Round Missiles, 1 UGM-84L HARPOON telemetry exercise section, containers, Guidance Control Units (GCU) spares, recertification and reconfiguration support, spare and repair parts, tools and tool sets, support equipment, personnel training and training equipment, publications and technical data, U.S. Government and contractor engineering and logistics support services, and other related elements of logistics support.

(iv) Military Department: Navy (AKT)

(v) Prior Related Cases, if any:

FMS case AJF-$42M-31Jul06

FMS case AJG-$71M-31Jul06

(vi) Sales Commission, Fee, etc., Paid, Offered, or Agreed to be Paid: None.

(vii) Sensitivity of Technology Contained in the Defense Article or Defense Services Proposed to be Sold: See Annex attached.

(viii) Date Report Delivered to Congress: 22 May 2012.

Policy Justification

Republic of Korea—UGM-84L HARPOON Missiles

The Government of Korea has requested a possible sale of 18 UGM-84L HARPOON Block II All-Up-Round Missiles, 1 UGM-84L HARPOON telemetry exercise section, containers, Guidance Control Units (GCU) spares, recertification and reconfiguration support, spare and repair parts, tools and tool sets, support equipment, personnel training and training equipment, publications and technical data, U.S. Government and contractor engineering and logistics support services, and other related elements of logistics support. The estimated cost is $84 million.

The Government of Korea is one of the major political and economic powers in East Asia and the Western Pacific and a key partner of the United States in ensuring peace and stability in that region. It is vital to the U.S. national interest to assist our Korean ally in developing and maintaining a strong and ready self-defense capability, which will contribute to an acceptable military balance in the area.

The Republic of Korea (ROK) intends to use the HARPOON Block II missiles to supplement its existing HARPOON missile capability. This will enhance the capabilities of the ROK Navy and support its regional influence, a key factor in Overseas Contingency Operations. The acquisition of the HARPOON Block II missiles and support will supplement current weapon inventories and bring the ROK's Naval Anti-Surface Warfare performance up to existing regional baselines. The proposed sale will provide a defensive capability while enhancing interoperability with the U.S. and other allied forces. Korea will have no difficulty absorbing these additional missiles into its armed forces.

The proposed sale of HARPOON missiles will not alter the basic military balance in the region.

The prime contractor will be the Boeing Company in St Louis, Missouri. There are no known offset agreements proposed in connection with this potential sale.

Implementation of this proposed sale will not require the assignment of any additional U.S. Government or contractor personnel to Korea. However, U.S. Government or contractor personnel in-country visits will be required on a temporary basis for program, technical, and management oversight and support requirements.

There will be no adverse impact on U.S. defense readiness as a result of this proposed sale.

Transmittal No. 12-06

Notice of Proposed Issuance of Letter of Offer Pursuant to Section 36(b)(1) of the Arms Export Control Act, as Amended

Annex—Item No. vii

(vii) Sensitivity of Technology:

1. The UGM-84L Block II HARPOON missile (UGM-84L) is a submarine launched Anti-Surface Warfare (AsuW) missile that provides Naval forces with a capability to engage targets in both the “blue water” regions and the littorals of the world. The HARPOON Block II missile, including publications, documentation, operations, supply, maintenance, and training to be conveyed with this proposed sale have the highest classification level of Secret. The HARPOON Block II missile incorporates components, software, and technical design information that are considered sensitive. The following HARPOON Block II missile components being conveyed by the proposed sale that are considered sensitive and are classified include:

a. (U) The Radar seeker

b. (U) The GPS/INS System

c. (U) Operational Flight Program (OFP) Software

d. (U) Missile operational characteristics and performance data

These elements are essential to the ability of the HARPOON Block II missile to selectively engage hostile targets under a wide range of operational, tactical and environmental conditions.

2. If a technologically advanced adversary were to obtain knowledge of the specific hardware and software elements, the information could be used to develop countermeasures which might reduce weapon system effectiveness or be used in the development of a system with similar or advanced capabilities.

[FR Doc. 2012-13291 Filed 5-31-12; 8:45 am]

BILLING CODE 5001-06-P